DEPARTMENT OF JUSTICE

Antitrust Division

Notice Pursuant to the National Cooperative Research and Production Act of 1993—Laser Diode Development Agreement

Notice is hereby given that, on March 21, 2002, pursuant to section 6(a) of the National Cooperative Research and Production Act of 1993, 15 U.S.C. 4301 et seq. (“the Act”), Laser Diode Development Agreement has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Cree, Inc., Durham, NC; and Rohm Co., Ltd., Kyoto, Japan. The nature and objectives of the venture are to cooperate in the development of laser diode devices for use in high capacity optical storage applications.

Constance K. Robinson,
Director of Operations, Antitrust Division.

[FR Doc. 02-9696 Filed 4-19-02; 8:45 am]

BILLING CODE 4410-11-M